DEPARTMENT OF AGRICULTURE

Natural Resources Conservation Service

[Docket No. NRCS-2024-0008]

Proposed Revisions to Section 1 of the Field Office Technical Guide for Several States

AGENCY: Natural Resources Conservation Service (NRCS), Department of Agriculture (USDA).

ACTION: Notice of availability, request for comments.

SUMMARY: NRCS is giving notice that it is proposing revisions to Section 1—General Resource References of the Field Office Technical Guides in Connecticut, Delaware, Florida, Kentucky, Maryland, Massachusetts, New York, North Carolina, Pennsylvania, Rhode Island, South Carolina, and Virginia to include State Offsite Methods for Food Security Act Wetland Identification (SOSM). The proposed changes will replace the existing state wetland mapping conventions. The revisions are needed to clarify procedures and improve consistency in application. SOSM are used in completing wetland determinations for USDA program eligibility purposes.

DATES: We will consider comments that we receive by August 21, 2024.

ADDRESSES: We invite you to submit comments in response to this notice. You may submit your comments through:

• Federal eRulemaking Portal: Go to http://www.regulations.gov and search for Docket ID NRCS-2024-0008. Follow the online instructions for submitting comments;

All comments received will be made publicly available on http://www.regulations.gov.

FOR FURTHER INFORMATION CONTACT: The appropriate person as listed below by State:

• Connecticut: Thomas L. Morgart; telephone: (860) 871-4011; email: thomas.morgart@usda.gov;

• Delaware: Jayme Arthurs; telephone: (302) 678-4160; email: jayme.arthurs@usda.gov;

• Florida: Walter Albarran; telephone: (352) 338-9500; email: walter.albarran@usda.gov;

• Kentucky: Eric Allness; telephone: (859) 224-7391; email: eric.allness@usda.gov.

• Maryland: Suzy Daubert; telephone: (410) 757-0861; email: suzy.daubert@usda.gov;

• Massachusetts: Dan Wright; telephone: (413) 253-4350; email: daniel.wright@usda.gov;

• New York: Blake Glover; telephone: (315) 477-6504; email: blake.glover@usda.gov;

• North Carolina: Julius George (Acting); telephone: (919) 873-2101; email: juliusjulius.george@usda.gov;

• Pennsylvania: Denise Coleman; telephone: (717) 237-2100; email: denise.coleman@usda.gov;

• Rhode Island: R. Phou Vongkhamdy; telephone: (401) 828-1300; email: pooh.vongkhamdy@usda.gov;

• South Carolina: Jamie Keith (Acting); telephone: (803) 253-3935; email: jamie.keith@usda.gov; and

• Virginia: Dr. Edwin Martinez; (804) 287-1691; email: edwin.martinez@usda.gov.

SUPPLEMENTARY INFORMATION: Guidance contained in each state's SOSM will be part of the technical documents and procedures that NRCS uses to determine if wetlands are present on agricultural land as required by 16 U.S.C. 3822. NRCS is required by 16 U.S.C. 3862 to make available for public review and comment all proposed revisions to standards and procedures used to carry out highly erodible land and wetland provisions of the law.

NRCS is proposing revisions to Section 1—General Resource References of the Field Office Technical Guides in Connecticut, Delaware, Florida, Kentucky, Maryland, Massachusetts, New York, North Carolina, Pennsylvania, Rhode Island, South Carolina, and Virginia to include SOSM. The proposed SOSM will replace the following existing state wetland mapping conventions:

• “Delaware and Maryland Wetland Mapping Conventions for Agricultural Lands,” November 2007 (Delaware and Maryland);

• “New England Soil Conservation Service Wetland Mapping Conventions,” July 1994 (Connecticut and Massachusetts);

• “Food Security Act New York State Mapping Conventions for Certified Wetland Determinations on Agricultural Land,” February 2021 (New York); and

• “Rhode Island Wetland Mapping Conventions,” March 2010 (Rhode Island).

Florida, Kentucky, North Carolina, Pennsylvania, South Carolina, and Virginia do not have current state mapping conventions to be replaced.

The revisions to the Field Office Technical Guides are needed to clarify procedures and improve consistency in application. SOSM are used in completing wetland determinations for USDA program eligibility purposes.

There are separate SOSM documents for each state, except for North Carolina and South Carolina, which share a single SOSM. To fully understand the proposed revisions, commenters are encouraged to compare the SOSMs with state mapping conventions for the states listed above, as shown in Section 1 of the NRCS Field Office Technical Guide at https://efotg.sc.egov.usda.gov/#/. The electronic copies of each state's SOSM are available through http://www.regulations.gov by accessing Docket ID NRCS-2024-0008. Requests for paper versions or inquiries may be directed to the specific State Conservationist as identified in the FOR FURTHER INFORMATION CONTACT section above.

In general, all documents have similar language and technical methodologies with some variations based on natural resource information available and state-specific considerations.

All comments will be considered. If no comments are received, guidance contained in each state's SOSM will be considered final at the end of the comment period for this notice.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunicaions Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov. USDA is an equal opportunity provider, employer, and lender.

Louis Aspey,
Associate Chief, Natural Resources Conservation Service.

[FR Doc. 2024-16006 Filed 7-19-24; 8:45 am]

BILLING CODE 3410-16-P